DEPARTMENT OF AGRICULTURE

Animal and Plant Health Inspection Service

7 CFR Part 301

[Docket No. 01-048-2]

Pine Shoot Beetle; Addition to Quarantined Areas; Correction

AGENCY: Animal and Plant Health Inspection Service, USDA.

ACTION: Interim rule; correction.

SUMMARY: This document corrects an interim rule published July 18, 2001, that amended the pine shoot beetle regulations. The correction changes an instruction to reflect that a paragraph containing a map depicting the quarantined area (7 CFR 301.50-3(d)) was being added rather than revised.

EFFECTIVE DATE: July 18, 2001.

FOR FURTHER INFORMATION CONTACT: Mr. Jonathan Jones, Operations Officer, Invasive Species and Pest Management, PPQ, APHIS, 4700 River Road, Unit 134, Riverdale, MD 20737-1236, (301) 734-8247.

SUPPLEMENTARY INFORMATION: On January 5, 1999, we published in the Federal Register (64 FR 385-387, Docket No. 98-113-1) an interim rule that amended the pine shoot beetle regulations (contained in 7 CFR 301.50 through 301.50-10) by, among other things, removing paragraph (d) of § 301.50-3. Paragraph (d) contained a map that showed the quarantined counties listed in § 301.50-3(c). This interim rule was affirmed as a final rule on April 2, 1999 (63 FR 15916-15918, Docket No. 98-113-2).

However, due to an oversight by the Office of the Federal Register, paragraph (d) of § 301.50-3 continued to appear in the Code of Federal Regulations revised as of January 1, 2000, and January 1, 2001.

On July 18, 2001, we published in the Federal Register (66 FR 37401-37405, Docket No. 01-048-1) an interim rule that amended the pine shoot beetle regulations by, among other things, revising the map contained in paragraph (d) of § 301.50-3. Since § 301.50-3(d) should have been removed prior to that date, we are now correcting the interim rule published July 18, 2001, to reflect that paragraph (d) of § 301.50-3 was being added rather than revised.

List of Subjects in 7 CFR Part 301

Agricultural commodities, Plant diseases and pests, Quarantine, Reporting and recordkeeping requirements, Transportation.

PART 301—[CORRECTED]

The interim rule amending 7 CFR part 301 published July 18, 2001, at 66 FR 37401 is corrected as follows:

1. On page 37403, in the first column, amendatory instruction 2k for § 301.50-3 is corrected to read as follows:

k. By adding paragraph (d).

2. On page 37404, in the third column, § 301.50-3, paragraph (d) is corrected by removing the three asterisks following the paragraph designation and adding in their place: “A map of the quarantined areas follows:”.

Done in Washington, DC, this 30th day of August 2001.
Alfonso Torres,
Acting Administrator, Animal and Plant Health Inspection Service.

[FR Doc. 01-22404 Filed 9-5-01; 8:45 am]

BILLING CODE 3410-34-U